DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH) and Subcommittee for Dose Reconstruction and Site Profile Reviews.

Subcommittee Meeting Time and Date:10 a.m.-3:30 p.m., October 17, 2005.

Committee Meeting Times and Dates:8:30 a.m.-5 p.m., October 18, 2005. 8:30 a.m.-4:30 p.m., October 19, 2005.

Place: Knoxville Marriott Hotel, 500 Hill Avenue, SE., Knoxville, Tennessee, 37915. Telephone: (865) 637-1234.

Status: Open to the public, limited only by the space available. The meeting space accommodates approximately 75 people.

Background: The ABRWH was established under the Energy Employees Occupational Illness Compensation Program Act (EEOICPA) of 2000 to advise the President, delegated to the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC).

In December 2000 the President delegated responsibility for funding, staffing, and operating the Board to HHS, which subsequently delegated this authority to CDC. NIOSH implements this responsibility for CDC. The charter was issued on August 3, 2001, and renewed on July 27, 2005.

Purpose: This board is charged with (a) providing advice to the Secretary, HHS, on the development of guidelines under Executive Order 13179; (b) providing advice to the Secretary, HHS, on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: The agenda for the Subcommittee Meeting includes Individual Dose Reconstruction Reviews; Site Profile Reviews, particularly Bethlehem Steel, Y-12, Savannah River Site and Rocky Flats; and a Review of Task 3 of the S. Cohen & Associates Contract (SC&A). The Board meeting's agenda includes Subcommittee Reports on the agenda items listed; SC&A Task 4; Site Profile Reviews; SEC Activities, specifically National Bureau of Standards Petition Evaluation and § 83.14 Petition Evaluation(s); Science Issues; Program Updates; and Conflict of Interest Discussions. The evening public comment periods are scheduled for October 17, 2005 from 4 p.m.-5 p.m. and October 18, 2005 from 7 p.m.-8 p.m.

The agenda is subject to change as priorities dictate.

In the event an individual cannot attend, written comments may be submitted. Any written comments received will be provided at the meeting and should be submitted to the contact person below well in advance of the meeting.

Contact Person for More Information: Dr. Lewis V. Wade, Executive Secretary, NIOSH, CDC, 4676 Columbia Parkway, Cincinnati, Ohio 45226, telephone 513-533-6825, fax 513-533-6826.

The Director, Management Analysis and Services Office, has been delegated the authority to sign Federal Register notices pertaining to announcements of meetings and other committee management activities for both the CDC and the Agency for Toxic Substances and Disease Registry.

Dated: September 26, 2005.
Diane Allen,
Acting Director, Management Analysis and Services Office, Centers for Disease Control and Prevention.

[FR Doc. 05-19563 Filed 9-29-05; 8:45 am]

BILLING CODE 4163-18-P